DEPARTMENT OF COMMERCE

National Oceanic and Atmospheric Administration

RIN 0648-XB168

Endangered and Threatened Species; Take of Anadromous Fish

AGENCY: National Marine Fisheries Service (NMFS), National Oceanic and Atmospheric Administration (NOAA), Commerce.

ACTION: Receipt of two applications for scientific research and enhancement permits.

SUMMARY: Notice is hereby given that NMFS has received two scientific research and enhancement permit application requests relating to salmonids listed under the Endangered Species Act (ESA). The proposed research activities are intended to increase knowledge of the species and to help guide management and conservation efforts. The applications and related documents may be viewed online at: https://apps.nmfs.noaa.gov/preview/preview_open_for_comment.cfm. These documents are also available upon written request or by appointment by contacting NMFS by phone (916) 930-3600 or fax (916) 930-3629.

DATES: Written comments on the permit applications must be received at the appropriate address or fax number (see ADDRESSES) no later than 5 p.m. Pacific standard time on May 24, 2012.

ADDRESSES: Written comments on either application should be submitted to the Protected Resources Division, NMFS, 650 Capitol Mall, Suite 5-100, Sacramento, CA 95814. Comments may also be submitted via fax to (916) 930-3629 or by email to FRNpermitsSAC.SR@noaa.gov.

FOR FURTHER INFORMATION CONTACT: Amanda Cranford, Sacramento, CA (ph.: 916-930-3706, email: Amanda.Cranford@noaa.gov).

SUPPLEMENTARY INFORMATION:

Species Covered in This Notice

This notice is relevant to federally threatened California Central Valley steelhead (Oncorhynchus mykiss), threatened Central Valley spring-run Chinook salmon (O. tshawytscha), endangered Sacramento River winter-run Chinook salmon (O. tshawytscha), and threatened Southern Distinct Population Segment of North American green sturgeon (Acipenser medirostris).

Authority

Scientific research permits are issued in accordance with section 10(a)(1)(A) of the ESA of 1973 (16 U.S.C. 1531-1543) and regulations governing listed fish and wildlife permits(50 CFR parts 222-226). NMFS issues permits based on findings that such permits: (1) Are applied for in good faith; (2) if granted and exercised, would not operate to the disadvantage of the listed species which are the subject of the permits; and (3) are consistent with the purposes and policies set forth in section 2 of the ESA. The authority to take listed species is subject to conditions set forth in the permits.

Anyone requesting a hearing on the applications listed in this notice should set out the specific reasons why a hearing on the application(s) would be appropriate (see ADDRESSES). Such hearings are held at the discretion of the Assistant Administrator for Fisheries, NMFS.

Applications Received

Permit 14808

The California Department of Fish and Game (CDFG) is requesting a 5-year scientific research and enhancement permit to take juvenile California Central Valley steelhead, juvenile Central Valley spring-run Chinook salmon, juvenile Sacramento River winter-run Chinook salmon, and juvenile Southern Distinct Population Segment North American green sturgeon associated with research activities at two different sites in the upper Sacramento River. Application 14808 was previous noticed in the Federal Register (75 FR 14134) with a 30 day comment period from March 24, 2010, to April 23, 2010. No comments were received for this application, however due to substantial changes to the sampling locations and the amount take NMFS decided to publish the revised notice for public comment. In the studies described below, researchers do not expect to kill any natural origin listed fish but a small number, up to two percent, may die as an unintended result of the research activities. A sub-sample of hatchery produced winter-run Chinook salmon (up to 40 per day) may experience intentional (directed) mortality and be retained by CDFG for coded wire tag retrieval and reading.

Monitoring efforts are conducted in order to compile information on timing, composition (species/race), and relative abundance of emigrating juvenile Chinook salmon and Central Valley steelhead from the upper Sacramento River system into the Sacramento-San Joaquin Delta. This information provides an early warning of salmonid movement into the Delta, enabling the implementation of adaptive management practices to protect juveniles as they enter and pass through the Delta.

Sampling will occur through the use of paired 8-foot rotary screw traps at two different sites along the upper Sacramento River. The first site, located near the town of Knights Landing (river mile (RM) 88.5) will be sampled beginning in October and continue through June of the following year. Traps will be fished continuously and checked once every 24 hours unless conditions warrant more frequent sampling. Captured salmonids will be: Anesthetized, handled (including fork length and wet weight measurements), allowed to recover, and released back into the river with the exception of up to 40 adipose fin clipped Chinook salmon that will be retained for coded wire tag processing. Sampling at Tisdale Weir (RM 120) will follow the same methods as described above, however sampling will occur year round from January through December.

Permit 13791

The U.S. Fish and Wildlife Service (USFWS) is requesting a 3-year scientific research and enhancement permit to take juvenile California Central Valley steelhead, juvenile Central Valley spring-run Chinook salmon, juvenile Sacramento River winter-run Chinook salmon, and juvenile Southern Distinct Population Segment North American green sturgeon associated with research activities at monitoring sites in the Sacramento River basin and the Sacramento-San Joaquin Delta. Application 13791 was previously noticed in the Federal Register (73 FR 70622) with a 30-day comment period from November 21, 2008, to December 22, 2008. No comments were received for this application, however due to substantial changes in the sampling procedures and the amount take NMFS decided to publish the revised notice for public comment. In the studies described below, researchers do not expect to kill any natural origin listed fish but a small number, up to three percent, may die as an unintended result of the research activities. All hatchery origin Chinook salmon with clipped adipose fins are assumed to be implanted with a coded wire tag. In order to retrieve and read these tags, all adipose fin clipped Chinook salmon captured during sampling will be sacrificed and retained for processing.

The Stockton Fish and Wildlife Office's Delta Juvenile Fish Monitoring Program (DJFMP) monitors the abundance, temporal and spatial distribution, and survival of juvenile salmonids and other fishes occurring within the lower Sacramento and San Joaquin Rivers and the San Francisco Estuary. The Breach III Project documents the occurrence and habitat use of ESA-listed fishes within Liberty Island, a tidally influenced freshwater marsh currently undergoing passive restoration, located within the San Francisco Estuary. The fish monitoring data collected by the DJFMP and the Breach III Project are intended to provide basic biological and population information on fishes of management concern, including the ESA listed winter- and spring-run Chinook salmon and Central Valley steelhead. Further, data can be used by natural resource managers to evaluate the effectiveness of water operations, aquatic habitat restoration, and fish management practices within the San Francisco Estuary and its watershed. As a result, take of ESA listed salmonids will likely occur while sampling using a variety of methodologies (e.g. fyke nets, multi-mesh gill nets, larval fish trawls, mid-water trawls, Kodiak trawls, and beach seines). Captured fish will be identified to species or race, measured for fork length to the nearest millimeter, and released back into the sampled location. Scale samples will also be taken from a sub-sample of natural origin Chinook salmon to assist the University of California, Davis with their genetic research in the Yolo Bypass.

Dated: April 19, 2012.
Angela Somma,
Chief, Endangered Species Division, Office of Protected Resources, National Marine Fisheries Service.

[FR Doc. 2012-9859 Filed 4-23-12; 8:45 am]

BILLING CODE 3510-22-P